DEPARTMENT OF COMMERCE

Foreign-Trade Zones Board

[B-30-2016]

Foreign-Trade Zone (FTZ) 125—South Bend, Indiana; Authorization of Proposed Production Activity; LionsHead Specialty Tire & Wheel, LLC (Wheel Assemblies for Specialty Applications); Goshen, Indiana

On May 3, 2016, LionsHead Specialty Tire & Wheel, LLC, submitted a notification of proposed production activity to the Foreign-Trade Zones (FTZ) Board for its facility within FTZ 125—Site 3, in Goshen, Indiana.

The notification was processed in accordance with the regulations of the FTZ Board (15 CFR part 400), including notice in the Federal Register inviting public comment (81 FR 29527-29528, May 12, 2016). The FTZ Board has determined that no further review of the activity is warranted at this time. The production activity described in the notification is authorized, subject to the FTZ Act and the Board's regulations, including Section 400.14.

Dated: August 31, 2016.
Andrew McGilvray,
Executive Secretary.

[FR Doc. 2016-21342 Filed 9-2-16; 8:45 am]

BILLING CODE 3510-DS-P